NATIONAL SCIENCE FOUNDATION

Notice of Application of Emergency Provision Under the Antarctic Conservation Act

AGENCY: National Science Foundation.

ACTION: Notice.

SUMMARY: The Office of Polar Programs, National Science Foundation, is giving notice that an emergency relating to considerations of human health and safety caused hazardous waste to be stored at McMurdo Station for more than 15 months.

Hazardous waste in the form of batteries, biomedical waste, laboratory chemical waste, gas cylinders, hazardous debris, glycol, PCBs, petroleum-based compounds, solvents/paints/adhesives, radioactive material, and fuel contaminated soils and materials, with an aggregate of approximately 22,140 lbs. net weight, was, consistent with waste management best practices, segregated, packaged, and stored in a secured location for removal from the station.

FOR FURTHER INFORMATION CONTACT: Dr. Polly A. Penhale, Senior Advisor, Environment at 703-292-7420.

SUPPLEMENTARY INFORMATION: The waste was to be removed in February 2022, at the end of the 2021-2022 season. In January 2022, the annual cargo vessel sustained electrical damage on its voyage to Antarctica, and had to return to port in California for repairs. Due to this delay, the ship arrived to McMurdo Station later than anticipated, and the ice pier at McMurdo cracked during the off-load and on-load of material. This crack posed a serious safety concern for human life and the vessel, making further waste removal operations impossible. The removal of the remaining hazardous waste is a priority for removal during the January-February 2023 time period.

(Authority: 45 CFR 671.17)

Erika N. Davis,
Program Specialist, Office of Polar Programs.

[FR Doc. 2022-04779 Filed 3-4-22; 8:45 am]

BILLING CODE 7555-01-P